DEPARTMENT OF DEFENSE

Department of the Air Force

[Docket ID: USAF-2010-0008]

Privacy Act of 1974; System of Records

AGENCY: Department of the Air Force, DoD.

ACTION: Notice to amend a system of records.

SUMMARY: The Department of the Air Force is proposing to amend a system of records notice in its existing inventory of records systems subject to the Privacy Act of 1974, (5 U.S.C. 552a), as amended.

DATES: The changes will be effective on April 26, 2010, unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Ben Swilley at (703) 696-6172.

SUPPLEMENTARY INFORMATION: The Department of the Air Force systems of records notices subject to the Privacy Act of 1974, (5 U.S.C. 552a), as amended, have been published in the Federal Register and are available from the Air Force Privacy Act Officer, Office of Warfighting Integration and Chief Information Officer, SAF/XCPPF, 1800 Air Force Pentagon, Washington, DC 20330-1800.

The specific changes to the records systems being amended are set forth below followed by the notices, as amended, published in their entirety. The proposed amendments are not within the purview of subsection (r) of the Privacy Act of 1974, (5 U.S.C. 552a), as amended, which requires the submission of a new or altered system report.

Dated: March 22, 2010.
Mitchell S. Bryman,
Alternate OSD Federal Register Liaison Officer, Department of Defense.

F036 AFSPC A

System name:

Space Command Operations Training (June 11, 1997; 62 FR 31793).

Changes:

* * * * *

Categories of records in the system:

Delete entry and replace with “Records related to qualifications, training/evaluation accomplishment, staff/crew alphanumeric identifier, type training/evaluation, scores, proficiency rating, name, grade, Social Security Number (SSN), unit assigned, and dates of training or evaluation.”

Authority for maintenance of the system:

Delete entry and replace with “10 U.S.C. 8013, Secretary of the Air Force; Air Force Space Command Instruction 36-2202; Operations Training and Standardization and Evaluation Programs and E.O. 9397 (SSN), as amended.”

* * * * *

Storage:

Delete entry and replace with “Paper file folders and electronic storage media.”

Retrievability:

Delete entry and replace with “Retrieved by name and/or Social Security Number (SSN).”

* * * * *

System manager(s) and address:

Delete entry and replace with “Director of Operations and Operations Training, Testing Exercise and Evaluation Division Chief at Headquarters Air Force Space Command. HQ AFSPC/A3, 150 Vandenberg Street, Suite 1500, Peterson AFB, CO 80914-4184.

Operations Officers (Second in Command) at Air Force Space Command units that perform the space control, space lift, missile warning (space or ground-based), space surveillance mission. Official mailing addresses are published as an appendix to the Air Force's compilation of record systems notices.”

* * * * *

Contesting record procedures:

Delete entry and replace with “The Air Force rules for accessing records, and for contesting contents and appealing initial agency determinations are published in Air Force Instruction 33-332; 32 CFR part 806b, Privacy Act Program; or may be obtained from the system manager.”

* * * * *

F036 AFSPC A

System name:

Space Command Operations Training

System location:

Operations flights at all units within Air Force Space Command and training flights at all operations support squadrons within 20th Air Force. Official mailing addresses are published as an appendix to the Air Force's compilation of record systems notices.

Categories of individuals covered by the system:

Air Force Space Command military personnel currently assigned to operational duties with space, space lift, warning and surveillance systems equipment.

Categories of records in the system:

Records related to qualifications, training/evaluation accomplishment, staff/crew alphanumeric identifier, type training/evaluation, scores, proficiency rating, name, grade, Social Security Number (SSN), unit assigned, and dates of training or evaluation.

Authority for maintenance of the system:

10 U.S.C. 8013, Secretary of the Air Force; Air Force Space Command Instruction 36-2202; Operations Training and Standardization and Evaluation Programs and E.O. 9397 (SSN), as amended.

Purpose(s):

To develop a record source of operations personnel qualifications, capabilities and historical data for analysis by unit and operations support squadrons to determine individual overall job qualifications. The files will provide a source of data to help ensure weapon system currency and adequacy of future training requirements.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The `DoD Blanket Routine Uses' published at the beginning of the Air Force's compilation of systems of records notices apply to this system.

Policies and practices for storing, retrieving, accessing, retaining, and disposing of records in the system:

Storage:

Paper file folders and electronic storage media.

Retrievability:

Retrieved by name and/or Social Security Number (SSN).

Safeguards:

Records are accessed by individuals responsible for servicing the record system in performance of their official duties and by authorized personnel who are properly screened and cleared for need-to-know. Records are stored in locked rooms and cabinets. Those in computer storage devices are protected by computer system software.

Retention and disposal:

Manual files are forwarded to gaining unit upon Permanent Change of Station to another Space Command unit. If individual then separates or transfers to another USAF major command, the file is returned to the individual. Computer records are deleted from the data base upon individual's departure from unit.

System manager(s) and address:

Director of Operations and Operations Training, Testing Exercise and Evaluation Division Chief at Headquarters Air Force Space Command. HQ AFSPC/A3, 150 Vandenberg Street, Suite 1500, Peterson AFB, CO 80914-4184.

Operations Officers (Second in Command) at Air Force Space Command units that perform the space control, space lift, missile warning (space or ground-based), space surveillance mission. Official mailing addresses are published as an appendix to the Air Force's compilation of record systems notices.

Notification procedure:

Individuals seeking to determine whether this system of records contains information on themselves should address written inquiries to the Director of Operations and Operations Training, Testing Standardization and Evaluation, and Configuration Control Division at Headquarters Air Force Space Command. HQ AFSPC/A3, 150 Vandenberg Street, Suite 1500, Peterson AFB, CO 80914-4184.

Operations Officers (Second in Command) at Air Force Space Command units that perform the space control, space lift, missile warning (space or ground-based), space surveillance mission. Official mailing addresses are published as an appendix to the Air Force's compilation of record systems notices.

Requests should include full name, Social Security Number (SSN), grade and approximate dates individual was assigned to Air Force Space Command to perform the space control, space lift, missile warning (space or ground-based) or space surveillance mission (after 1 Sep 1983).

Record access procedures:

Individuals seeking access to information about themselves contained in this system should address written requests to the Director of Operations and Operations Training, Testing Standardization and Evaluation, and Configuration Control Division at Headquarters Air Force Space Command. HQ AFSPC/A3, 150 Vandenberg Street, Suite 1500, Peterson AFB, CO 80914-4184.

Operations Officers (Second in Command) at Air Force Space Command units that perform the space control, space lift, missile warning (space or ground-based), space surveillance mission. Official mailing addresses are published as an appendix to the Air Force's compilation of record systems notices.

Requests should include full name, Social Security Number (SSN), grade and approximate dates individual was assigned to Air Force Space Command to perform the space control, space lift, missile warning (space or ground-based) or space surveillance mission (after 1 Sep 1983).

Contesting record procedures:

The Air Force rules for accessing records, and for contesting contents and appealing initial agency determinations are published in Air Force Instruction 33-332; 32 CFR part 806b; Privacy Act Program; or may be obtained from the system manager.

Record source categories:

Information is obtained from the individual, instructors, or the standardization evaluators.

Exemptions claimed for the system:

None.

[FR Doc. 2010-6688 Filed 3-25-10; 8:45 am]

BILLING CODE 5001-06-P